DEPARTMENT OF HOMELAND SECURITY

Federal Emergency Management Agency

[Docket ID FEMA-2025-0002; Internal Agency Docket No. FEMA-B-2570]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Assistant Administrator for the Federal Insurance Directorate, Resilience, reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience Federal Emergency Management Agency, Department of Homeland Security.

State and county | Location and case No. | Chief executive officer of community | Community map repository | Online location of letter of map revision | Date of modification | Community No.
Florida:
Bay | Unincorporated areas of Bay County (25-04-4144P). | Robert Majka, County Manager, Bay County, 840 West 11th Street, Panama City, FL 32401. | Planning and Zoning Department, 840 West 11th Street, Panama City, FL 32401. | https://msc.fema.gov/portal/advanceSearch. | Jan. 20, 2026 | 120004
Collier | City of Naples (25-04-4125P). | Gary Young, Manager, City of Naples, 735 8th Street South, Naples, FL 34102. | City Hall, 735 8th Street South, Naples, FL 34102. | https://msc.fema.gov/portal/advanceSearch. | Jan. 20, 2026 | 125130
Manatee | Unincorporated areas of Manatee County (25-04-0328P). | Charlie Bishop, Manatee County Administrator, 1112 Manatee Avenue West, Bradenton, FL 34205. | Manatee County Administration Building, 1112 Manatee Avenue West, Bradenton, FL 34205. | https://msc.fema.gov/portal/advanceSearch. | Jan. 29, 2026 | 120153
Manatee | Unincorporated areas of Manatee County (25-04-2142P). | Charlie Bishop, Manatee County Administrator, 1112 Manatee Avenue West, Bradenton, FL 34205. | Manatee County Administration Building, 1112 Manatee Avenue West, Bradenton, FL 34205. | https://msc.fema.gov/portal/advanceSearch. | Jan. 22, 2026 | 120153
Manatee | Unincorporated areas of Manatee County (25-04-2976P). | Charlie Bishop, Manatee County Administrator, 1112 Manatee Avenue West, Bradenton, FL 34205. | Manatee County Administration Building, 1112 Manatee Avenue West, Bradenton, FL 34205. | https://msc.fema.gov/portal/advanceSearch. | Jan. 29, 2026 | 120153
Orange | City of Orlando (24-04-5391P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Jan. 28, 2026 | 120186
Orange | City of Winter Garden (24-04-3647P). | The Honorable John Rees, Mayor, City of Winter Garden, 330 West Plant Street, Winter Garden, FL 34787. | City Hall, 330 West Plant Street, Winter Garden, FL 34787. | https://msc.fema.gov/portal/advanceSearch. | Dec. 19, 2025 | 120187
Orange | Unincorporated areas of Orange County (24-04-5391P). | The Honorable Jerry L. Demings, Mayor, Orange County, 201 South Rosalind Avenue, 5th floor, Orlando, FL 32801. | Orange County Public Works Department, Stormwater Management Division, 4200 South John Young Parkway, Orlando, FL 32839. | https://msc.fema.gov/portal/advanceSearch. | Jan. 28, 2026 | 120179
Pasco | Unincorporated areas of Pasco County (24-04-7609P). | Mike Carballa, Pasco County Administrator, 8731 Citizens Drive, New Port Richey, FL 34654. | Pasco County Government Center, 8731 Citizens Drive, New Port Richey, FL 34654. | https://msc.fema.gov/portal/advanceSearch. | Jan. 22, 2026 | 120230
Pasco | Unincorporated areas of Pasco County (25-04-0566P). | Mike Carballa, Pasco County Administrator, 8731 Citizens Drive, New Port Richey, FL 34654. | Pasco County Government Center, 8731 Citizens Drive, New Port Richey, FL 34654. | https://msc.fema.gov/portal/advanceSearch. | Jan. 22, 2026 | 120230
Pasco | Unincorporated areas of Pasco County (25-04-3295P). | Mike Carballa, Pasco County Administrator, 8731 Citizens Drive, New Port Richey, FL 34654. | Pasco County Government Center, 8731 Citizens Drive, New Port Richey, FL 34654. | https://msc.fema.gov/portal/advanceSearch. | Jan. 22, 2026 | 120230
Polk | City of Auburndale (24-04-4715P). | The Honorable Dorothea Taylor Bogert, Mayor, City of Auburndale, 1 Bobby Green Plaza, Auburndale, FL 33823. | City Hall, 1 Bobby Green Plaza, Auburndale, FL 33823. | https://msc.fema.gov/portal/advanceSearch. | Jan. 8, 2026 | 120262
Polk | Unincorporated areas of Polk County (25-04-2249P). | Bill Beasley, Polk County Manager, 330 West Church Street, Bartow, FL 33830. | Polk County Land Development Division, 330 West Church Street, Bartow, FL 33830. | https://msc.fema.gov/portal/advanceSearch. | Dec. 18, 2025 | 120261
Illinois:
Kane | City of Aurora (24-05-2637P). | The Honorable John Laesch, Mayor, City of Aurora, 44 East Downer Place, Aurora, IL 60505. | Public Works Department, Engineering Division, 2185 Liberty Street, Aurora, IL 60502. | https://msc.fema.gov/portal/advanceSearch. | Jan. 26, 2026 | 170320
Will | Unincorporated areas of Will County (25-05-1599P). | The Honorable Jennifer Bertino-Tarrant, Will County Executive, 302 North Chicago Street, Joliet, IL 60432. | Will County Land Use Department, 58 East Clinton Street, Suite 100, Joliet, IL 60432. | https://msc.fema.gov/portal/advanceSearch. | Jan. 26, 2026 | 170695
Will | Village of Plainfield (25-05-1599P). | The Honorable John F. Argoudelis, President, Village of Plainfield, 24401 West Lockport Street, Plainfield, IL 60544. | Village Hall, 24401 West Lockport Street, Plainfield, IL 60544. | https://msc.fema.gov/portal/advanceSearch. | Jan. 26, 2026 | 170771
Indiana: Clark | City of Jeffersonville (22-05-3068P). | The Honorable Mike Moore, Mayor, City of Jeffersonville, 500 Quartermaster Court, Jeffersonville, IN 47130. | City Hall, 500 Quartermaster Court, Jeffersonville, IN 47130. | https://msc.fema.gov/portal/advanceSearch. | Jan. 29, 2026 | 180027
Kentucky:
Boyle | City of Danville (24-04-6740P). | James “J.H.” Atkins, Mayor, City of Danville, 445 West Main Street, Danville, KY 40422. | City Hall, 445 West Main Street, Danville, KY 40422. | https://msc.fema.gov/portal/advanceSearch. | Dec. 24, 2025 | 210019
Boyle | Unincorporated areas of Boyle County (24-04-6740P). | Julie R. Wagner, County Administrator, Boyle County, 321 West Main Street, Danville, KY 40422. | Boyle County Courthouse, 321 West Main Street, Danville, KY 40422. | https://msc.fema.gov/portal/advanceSearch. | Dec. 24, 2025 | 210322
Jefferson | Metropolitan Government of Louisville and Jefferson County (24-04-1865P). | The Honorable Craig Greenberg, Mayor, Metropolitan Government of Louisville and Jefferson County, 527 West Jefferson Street, Louisville, KY 40202. | Louisville/Jefferson County Metropolitan Sewer District, 700 West Liberty Street, Louisville, KY 40202. | https://msc.fema.gov/portal/advanceSearch. | Jan. 26, 2026 | 210120
Maryland:
Anne Arundel | City of Laurel (25-03-0260P). | The Honorable Keith R. Sydnor, Mayor, City of Laurel, 8103 Sandy Spring Road, Laurel, MD 20707. | Joseph R. Robison Laurel Municipal Center, 8103 Sandy Spring Road, Laurel, MD 20707. | https://msc.fema.gov/portal/advanceSearch. | Jan. 16, 2026 | 240053
Anne Arundel | Unincorporated areas of Anne Arundel County (25-03-0260P). | Steuart Pittman, Anne Arundel County Executive, 44 Calvert Street, Annapolis, MD 21401. | Anne Arundel County Department of Inspections and Permits, 2664 Riva Road, Annapolis, MD 21401. | https://msc.fema.gov/portal/advanceSearch. | Jan. 16, 2026 | 240008
Massachusetts:
Berkshire | City of North Adams (24-01-0275P). | The Honorable Jennifer A. Macksey, Mayor, City of North Adams, 10 Main Street, North Adams, MA, 01247. | City Hall, 10 Main Street, North Adams, MA, 01247. | https://msc.fema.gov/portal/advanceSearch. | Dec. 15, 2025 | 250034
Essex | City of Lynn (24-01-0162P). | The Honorable Jared C. Nicholson, Mayor, City of Lynn, 3 City Hall Square, Lynn, MA01901. | Department of Inspectional Services, 3 City Hall Square, Lynn, MA01901. | https://msc.fema.gov/portal/advanceSearch. | Nov. 25, 2025 | 250088
Minnesota:
Houston | Unincorporated areas of Houston County (24-05-0501P). | The Honorable Eric Johnson, District 2 Commissioner, Houston County, 14212 Paradise Drive, Houston, MN 55943. | Houston County Courthouse, 304 South Marshall Street, Caledonia, MN 55921. | https://msc.fema.gov/portal/advanceSearch. | Jan. 20, 2026 | 270190
Scott | City of Savage (24-05-0896P). | Brad Larson, City Administrator, City of Savage, 6000 McColl Drive, Savage, MN 55378. | City Hall, 6000 McColl Drive, Savage, MN 55378. | https://msc.fema.gov/portal/advanceSearch. | Jan. 5, 2026 | 270433
North Carolina:
Haywood | Town of Canton (25-04-2980P). | The Honorable Zeb Smathers, Mayor, Town of Canton, 85 Summer Street, Canton, NC 28716. | Planning Department, 85 Summer Street, Canton, NC 28716. | https://msc.fema.gov/portal/advanceSearch. | Dec. 26, 2025 | 370121
Haywood | Unincorporated areas of Haywood County (25-04-2980P). | Kevin Ensley, Chair, Haywood County Board of Commissioners, 215 North Main Street, Waynesville, NC 28786. | Haywood County Development Services, 157 Paragon Parkway, Suite 200, Clyde, NC 28721. | https://msc.fema.gov/portal/advanceSearch. | Dec. 26, 2025 | 370120
Ohio:
Lucas | Unincorporated areas of Lucas County (25-05-1058P). | The Honorable Lisa A. Sobecki, President, Lucas County Board of Commissioners, 1 Government Center, Toledo, OH 43604. | Lucas County Engineering Department, 1049 South McCord Road, Holland, OH 43528. | https://msc.fema.gov/portal/advanceSearch. | Jan. 23, 2026 | 390359
Shelby | Unincorporated areas of Shelby County (25-05-0501P). | The Honorable Julie Ehemenn, Shelby County Commissioner, 129 East Court Street, Suite 100, Sidney, OH 45365. | Shelby County Engineer's Office, 500 Gearhart Road, Sidney, OH 45365. | https://msc.fema.gov/portal/advanceSearch. | Jan. 22, 2026 | 390503
Pennsylvania:
Pike | Township of Lackawaxen (25-03-0506P). | The Honorable Jeffery A. Shook, Chair, Township of Lackawaxen Board of Supervisors, 169 Urban Road, Hawley, PA 18428. | Township Building, 169 Urban Road, Hawley, PA 18428. | https://msc.fema.gov/portal/advanceSearch. | Dec. 22, 2025 | 421966
Pike | Township of Palmyra (25-03-0506P). | The Honorable Kenneth Coutts, Chair, Township of Palmyra Pike County Board of Supervisors, 115 Buehler Lane, Paupack, PA 18451. | Township Hall, 115 Buehler Lane, Paupack, PA 18451. | https://msc.fema.gov/portal/advanceSearch. | Dec. 22, 2025 | 421968
Wayne | Borough of Hawley (25-03-0506P). | Ann Monaghan, President, Borough of Hawley, 94 Main Avenue, Hawley, PA 18428. | Borough Hall, 94 Main Avenue, Hawley, PA 18428. | https://msc.fema.gov/portal/advanceSearch. | Dec. 22, 2025 | 420863
Wayne | Township of Palmyra (25-03-0506P). | The Honorable Pete Steffen, Chair, Township of Palmyra Wayne County Board of Supervisors, 219 Oak Street, Hawley, PA 18428. | Township Hall, 219 Oak Street, Hawley, PA 18428. | https://msc.fema.gov/portal/advanceSearch. | Dec. 22, 2025 | 420865
South Carolina: Greenville | Unincorporated areas of Greenville County (25-04-1614P). | Joseph Kernell, Greenville County Administrator, 301 University Ridge, Suite N-4000, Greenville, SC 29601. | Greenville County Planning and Code Compliance Division, 301 University Ridge, Suite S-3100, Greenville, SC 29601. | https://msc.fema.gov/portal/advanceSearch. | Jan. 20, 2026 | 450089
Texas:
Bexar | City of San Antonio (25-06-0705P). | The Honorable Gina Ortiz Jones, Mayor, City of San Antonio, P.O. Box 839966, San Antonio, TX 78283. | City Hall, 100 Military Plaza, San Antonio, TX 78205. | https://msc.fema.gov/portal/advanceSearch. | Dec. 15, 2025 | 480045
Burnet | City of Burnet (24-06-2686P). | The Honorable Gary Wideman, Mayor, City of Burnet, P.O. Box 1369, Burnet, TX 78611. | City Hall, 127 East Jackson Street, Burnet, TX 78611. | https://msc.fema.gov/portal/advanceSearch. | Nov. 28, 2025 | 480092
Collin | City of McKinney (25-06-1517P). | The Honorable Bill Cox, Mayor, City of McKinney, P.O. Box 517, McKinney, TX 75070. | City Hall, 401 East Virginia Street, McKinney, TX 75069. | https://msc.fema.gov/portal/advanceSearch. | Jan. 26, 2026 | 480135
Rockwall | City of Fate (25-06-1009P). | The Honorable Andrew Greenberg, Mayor, City of Fate, 1900 CD Boren Parkway, Fate, TX 75087. | City Hall, 1900 CD Boren Parkway, Fate, TX 75087. | https://msc.fema.gov/portal/advanceSearch. | Jan. 23, 2026 | 480135
Tarrant | City of Fort Worth (25-06-0596P). | The Honorable Mattie Parker, Mayor, City of Fort Worth, 100 Fort Worth Trail, Fort Worth, TX 76102. | Department of Transportation and Public Works—Stormwater Management Division, 100 Fort Worth Trail, Fort Worth, TX 76102. | https://msc.fema.gov/portal/advanceSearch. | Jan. 22, 2026 | 480596
Tarrant | City of Southlake (25-06-1139P). | The Honorable Shawn McCaskill, Mayor, City of Southlake, 1400 Main Street, Suite 270, Southlake, TX 76092. | City Hall, 1400 Main Street, Suite 460, Southlake, TX 76092. | https://msc.fema.gov/portal/advanceSearch. | Jan. 29, 2026 | 480612
Virginia:
Hanover | Unincorporated areas of Hanover County (25-03-0393P). | John A. Budesky, County Administrator, Hanover County, 7516 County Complex Road, Hanover, VA 23069. | Hanover County Administration, 7516 County Complex Road, Hanover, VA 23069. | https://msc.fema.gov/portal/advanceSearch. | Jan. 30, 2026 | 510237
Henrico | Unincorporated areas of Henrico County (25-03-0393P). | John Vithoulkas, County Manager, Henrico County, P.O. Box 90775, Henrico, VA 23273. | Henrico County Western Government Center, 4305 East Parham Road, Richmond, VA 23228. | https://msc.fema.gov/portal/advanceSearch. | Jan. 30, 2026 | 510077

[FR Doc. 2025-23169 Filed 12-17-25; 8:45 am]

BILLING CODE 9110-12-P